DEPARTMENT OF TRANSPORTATION

Federal Aviation Administration

Approval of Noise Compatibility Program for McCarran International Airport, Las Vegas, NV

AGENCY: Federal Aviation Administration, DOT.

ACTION: Notice.

SUMMARY: The Federal Aviation Administration (FAA) announces its findings on the noise compatibility program submitted by Clark County, Nevada under the provisions of 49 U.S.C. (the Aviation Safety and Noise Abatement Act, hereinafter referred to as “the Act”) and 14 CFR Part 150. These findings are made in recognition of the description of Federal and nonfederal responsibilities in Senate Report No. 96-52 (1980). On July 10, 2007 (72 FR 40357), the FAA determined that the noise exposure maps submitted by Clark County under Part 150 were in compliance with applicable requirements. On September 18, 2008, the FAA approved the McCarran International Airport noise compatibility program. All of the recommendations of the program were approved. One Noise Abatement Measure relating to new or revised flight procedures for noise abatement was proposed by the airport operator.

DATES: Effective Date: The effective date of the FAA's approval of the McCarran International Airport noise compatibility program is September 18, 2008.

FOR FURTHER INFORMATION CONTACT: David B. Kessler, AICP, Regional Environmental Protection Specialist, Federal Aviation Administration, Western Pacific Region, Mailing address: P.O. Box 92007, Los Angeles, CA 90009-2007. Street Address: 15000 Aviation Boulevard, Hawthorne, California 90261. Telephone 310/725-3615. Documents reflecting this FM action may be reviewed at this same location.

SUPPLEMENTARY INFORMATION: This notice announces that the FAA has given its overall approval to the Noise Compatibility Program for McCarran International Airport, effective September 18, 2008.

Under section 47504 of the Act, an airport operator who has previously submitted a noise exposure map may submit to the FAA a noise compatibility program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of 14 CFR Part 150 program recommendations is measured according to the standards expressed in Part 150 and the Act and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where Federal funding is sought, requests for project grants must be submitted to the FAA Airports District Office in Burlingame, California.

The Clark County submitted to the FAA on January 17, 2007, the Noise Exposure Maps, descriptions, and other documentation produced during the noise compatibility planning study conducted from October 2002 through June 2006. The McCarran International Airport Noise Exposure Maps were determined by FAA to be in compliance with applicable requirements on July 10, 2007. Notice of this determination was published in the Federal Register on July 24, 2007 (72 FR 40357).

The McCarran International Airport study contains a proposed noise compatibility program comprised of actions designed for phased implementation by airport management and adjacent jurisdictions (from 2004 to beyond the year 2009). It was requested that the FAA evaluate and approve this material as a Noise Compatibility Program as described in 49 U.S.C. 47504 of the Act.

The FAA has formally received the noise compatibility program for LAS, effective on June 9, 2008. The FAA began its review of the program on June 9, 2008, and was required by a provision of the Act to approve or disapprove the program within 180 days (other than the use of new or modified flight procedures for noise control). Failure to approve or disapprove such program within the 180-day period shall be deemed to be an approval of such program.

The submitted program contained 22 proposed actions for noise abatement and noise mitigation on and off the airport. The FAA completed its review and determined that the procedural and substantive requirements of the Act and FAR Part 150 have been satisfied. The overall program was approved, by the Manager of the Airports Division, Western-Pacific Region, effective September 18, 2008.

Outright approval was granted for eleven (11) of the 13 noise abatement measures. FAA approved all nine (9) noise mitigation measures. Two Noise Abatement Measures were disapproved.

The approved noise abatement measures included: Maintain and clarify the existing informal preferential runway use program: Encourage the use of existing noise abatement flight tracks to ensure that aircraft fly over historic flight corridors: Continue to use designated engine run-up areas at the airport for maintenance purposes: Continue to support the use of general aviation reliever airports in the Clark County Airport System: Continue the biannual noise monitoring program for fixed-wing aircraft and annual noise monitoring for helicopter tour traffic: Conduct a study to determine if the use of advanced navigational technologies could enable pilots to follow more predictable and precise flight tracks, thereby minimizing over flights and noise in areas developed with noise-sensitive land uses: Conduct a study to determine the feasibility and noise reduction benefits of establishing continuous descent approach (CDA) procedures at the airport: Conduct a study of the “distant” noise abatement departure profile (NADP) as described in FAA Advisory Circular 91-53A, Noise Abatement Departure Profiles, to determine the potential for reducing aircraft noise exposure in the airport environs: Continue to encourage airlines to use quieter aircraft and establish a recognition program for airlines that adhere to the principles of the Department of Aviation's “fly quiet and safely” program; Continue to support legislation that establishes quieter engine standards for all aircraft types; Continue to pursue the construction of a Southern Nevada Regional Heliport; Expand the public information program related to the NCP for LAS and publish a “fly quietly and safely” program brochure.

Approved noise mitigation measures include: Establish a voluntary program to acquire properties developed with airport-incompatible land uses that will be exposed to aircraft noise of DNL 70 dB and higher based on the 2011 noise exposure map; Establish a voluntary program to acquire properties developed with airport-incompatible land uses that will be exposed to aircraft noise of DNL 65-70 dB based on the 2011 noise exposure map and adjacent properties, as appropriate, to prevent neighborhood abandonment; Establish a voluntary sound insulation and/or transaction assistance program for properties developed with airport-incompatible land uses that will be exposed to aircraft noise DNL 65 to DNL 70 based on the 2011 noise exposure map; Continue to work with the Clark County Department of Comprehensive Planning, the City of Henderson Community Development Department, the University of Nevada, Las Vegas (UNLV), and other appropriate agencies to amend land use and/or master plans to discourage the introduction of noise-sensitive and otherwise incompatible land uses in areas exposed to aircraft noise of DNL 60 and higher; Continue to support redevelopment in areas exposed to aircraft noise of DNL 65 and higher that are transitioning from noise sensitive land uses to airport-compatible land uses; Update the Airport Environs Overlay District (AEOD) map to reflect changes in aircraft noise patterns that have occurred since the AEOD was last updated, and add a new AE-60 subdistrict; Revisit land use compatibility requirements codified in the AEOD ordinance and update sections of the ordinance, as necessary, to include a new AE-60 subdistrict and to reflect sound attenuation requirements recently adopted as part of the MUOD ordinance; Continue to actively support enforcement of the AEOD through ongoing review of development applications and condition airport related issues as appropriate; Pursue the establishment of airport noise disclosure requirements at the local or state level.

FAA disapproved the following two Noise Abatement measures: Continue to support legislation that establishes quieter engine standards for all aircraft types: Request that FAA increase the length of the final straight-in approach segment for arrivals on Runways 1 L, 1 R, 7L and 7R during visual meteorological conditions (VMC).

These determinations are set forth, in detail, in the Record of Approval signed by the Manager of the Airports Division, Western-Pacific Region, on September 18, 2008. The Record of Approval, as well as other evaluation materials and the documents comprising the submittal, are available for review at the FAA office listed above and at the administrative offices of the Clark County Department of Aviation. The Record of Approval will be available on-line at: http://www.faa.gov/airports_airtraffic/airports/environmental/airport_noise/part_150/states/ .

Issued in Hawthorne, California, on September 29, 2008.
Mark A. McClardy,
Manager, Airports Division, Western-Pacific Region, AWP-600.

[FR Doc. E8-24817 Filed 10-20-08; 8:45 am]

BILLING CODE 4910-13-M